DEPARTMENT OF LABOR

Employment and Training Administration

[TA-W-72,420]

General Motors Company, Lordstown Stamping Plant, Warren, OH; Notice of Termination of Investigation

Pursuant to Section 221 of the Trade Act of 1974, as amended, an investigation was initiated on September 28, 2009 in response to a petition filed by the International Union, United Automobile, Aerospace and Agricultural Implement Workers of America, Local 1714 on behalf of workers of General Motors Company, Lordstown Stamping Plant, Warren, Ohio.

The petitioning group of workers is covered by an active certification (TA-W-70,623) as amended, which expires on September 2, 2011. Consequently, further investigation in this case would serve no purpose, and the investigation has been terminated.

Signed in Washington, DC, this 29th day of January 2010.
Elliott S. Kushner,
Certifying Officer, Division of Trade Adjustment Assistance.

[FR Doc. 2010-5355 Filed 3-11-10; 8:45 am]

BILLING CODE 4510-FN-P